DEPARTMENT OF EDUCATION

Notice of a Waiver of Section 1605 of the American Recovery and Reinvestment Act of 2009 (ARRA) for Poplar School District, Poplar, MT

ACTION: Notice of a Waiver of Section 1605 of the American Recovery and Reinvestment Act of 2009 (ARRA) for Poplar School District, Poplar, Montana.

SUMMARY: In this notice, the Department of Education (the Department) announces its waiver of the Buy American requirements in section 1605(a) of the ARRA (Buy American Requirements) for the Poplar School District in Poplar, Montana (Poplar District) and the justification for this waiver. This waiver permits use of imported T8 4-foot electronic ballasts in the Poplar District's lighting project, which is supported with Impact Aid funds appropriated under the ARRA.

SUPPLEMENTARY INFORMATION: The Department provided Poplar District with an Impact Aid ARRA formula grant for school construction activities authorized under section 8007(a) of the Elementary and Secondary Education Act of 1965, as amended. The Poplar District proposes to use these funds for a lighting project, but reports that the particular lights needed (T8 4-foot electronic ballasts) for this construction project are not produced in the United States.

In accordance with section 1605(c) of the ARRA, the Department hereby provides notice that it is granting a waiver of the Buy American Requirements for the Poplar District's lighting project. This notice constitutes the detailed written justification that the Department is required to publish in instances when it grants such a waiver pursuant to section 1605(b) of the ARRA.

Section 1605(a) of the ARRA requires that none of the appropriated funds be used for the construction, alteration, maintenance, or repair of a public building or public work unless all of the iron, steel, and manufactured goods used in the project are produced in the United States. The ARRA further provides that this requirement does not apply, and that a waiver may be granted, when the head of the Federal department or agency involved finds that: (1) Applying these requirements would be inconsistent with the public interest; (2) iron, steel, and relevant manufactured goods are not produced in the United States in sufficient and reasonably available quantities and of a satisfactory quality; or (3) inclusion of iron, steel, and relevant manufactured goods produced in the United States will increase the overall cost of the project by more than 25 percent.

The Secretary has determined that a section 1605(b) waiver of the Buy American Requirements is appropriate for the Poplar District's lighting project because, based on the Department's research, the particular lights needed for this project are not manufactured in the United States. The Department bases this determination on information provided by the Poplar District as well as the Department's own research. The Poplar District has provided information to the Department documenting that there are no T8 4-foot electronic ballast manufacturers in the United States. In addition, based on the Department's own research (Internet product literature searches) and to the best of the Department's knowledge at the time of its review of the Poplar District's waiver request, there do not appear to be U.S.-manufactured T8 4-foot electronic ballasts available to the Poplar District for the ARRA-funded lighting project.

Furthermore, the purpose of the ARRA is to stimulate economic recovery, in part, by funding current infrastructure construction, and not to delay projects that are “shovel ready” by requiring the revision of standards and specifications or a new bidding process. The imposition of the Buy American Requirements on such otherwise eligible projects would result in unreasonable delay, and to further delay construction would be in direct conflict with a fundamental economic purpose of the ARRA, which is to create or retain jobs.

The Department has reviewed the Poplar District's waiver request and has determined that the supporting documentation is sufficient to demonstrate that a waiver is justified under section 1605(b)(2) of the ARRA. Having established both a proper basis to specify the particular good required for this project, and that this manufactured good is not available from a producer in the United States, the Poplar District is hereby granted a waiver from the Buy American Requirements reflected in section 1605(a) of the ARRA for the purchase of T8 4-foot electronic ballasts using ARRA funds as specified in the Poplar District's request.

FOR FURTHER INFORMATION CONTACT: Kristen Walls-Rivas, Impact Aid Program, U.S. Department of Education, 400 Maryland Avenue, SW., Washington, DC 20202. Telephone: (202) 260-1357 or via Internet: Kristen.Walls-Rivas@ed.gov.

If you use a telecommunications device for the deaf (TDD), call the Federal Relay Service (FRS), toll free, at 1-800-877-8339. Individuals with disabilities can obtain this document in an accessible format (e.g., braille, large print, audiotape, or computer diskette) on request to the program contact person listed in this section.

Electronic Access to This Document: You may view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Authority: Section 1605 of the American Recovery and Reinvestment Act, Public Law 111-5.

Dated: May 28, 2010.
Arne Duncan,
Secretary of Education.

[FR Doc. 2010-13308 Filed 6-1-10; 8:45 am]

BILLING CODE 4000-01-P